NUCLEAR REGULATORY COMMISSION

Risk-Informed Regulation Implementation Plan

AGENCY: Nuclear Regulatory Commission.

ACTION: Notice of availability of plan and request for public comment.

SUMMARY: The Nuclear Regulatory Commission's 1995 policy statement on the use of probabilistic risk assessment provided the Commission's expectation on the use of risk information in its regulatory activities. The Risk-informed Regulation Implementation Plan (RIRIP) provides guidance and describes the staff's plans for applying criteria to select regulatory requirements and practices to risk-inform, risk-informing those requirements and practices, and developing the necessary data, methods, guidance, and training. The RIRIP is also intended to explain the agency's activities, philosophy, and approach to risk-informed regulatory policy to internal and external stakeholders. The public is invited to provide feedback on the agency's plans and progress toward implementing risk-informed regulatory initiatives.

SUPPLEMENTARY INFORMATION: This notice serves as a request for public comment on the Nuclear Regulatory Commission's Risk-Informed Regulatory Implementation Plan (SECY-00-0213) that is dated October 26, 2000 (web address: http://www.nrc.gov/RES/nrc.html). Written comments are requested by February 28, 2001. A workshop will be scheduled in early 2001 to discuss comments received and to provide for the exchange of information will all stakeholders regarding the staff's efforts to risk-inform its regulatory requirements and practices. The workshop agenda and other details will be provided in a forthcoming Federal Register notice prior to the workshop Feedback is especially requested on the following specific questions—

1. Does the RIRIP include information activities that should not be undertaken? If so, why not?

2. Does the RIRIP omit implementation activities that should be undertaken? Describe such activities and why they should be undertaken.

3. How should the NRC measure its success in implementing risk-informed regulation?

4. Is the pace for implementing risk-informed regulation about right, or is to fast or too slow?

5. Are there concerns about the agency's ability to maintain safety while implementing risk-informed regulation? If so, describe the concerns and, if possible, their basis.

6. How can risk-informed regulation increase public confidence?

7. Are the screening criteria clear and sufficient? If applied properly, would they result in identifying those activities amenable for transition to risk-informed regulation?

8. Will the implementation activities described in the RIRIP appropriately improve regulatory efficiency, effectiveness, and realism?

9. Other than requests such as this for written comment and a public workshop, how can stakeholder participation in risk-informed regulation be enhanced?

10. What communication activities would be desired to describe risk-informed regulation? What other interactions would be useful to provide input to, and understanding of, risk-informed regulation?

FOR FURTHER INFORMATION CONTACT: Written comments may be sent to Thomas L. King, Director of the Division of Risk Analysis and Applications, Office of Nuclear Regulatory Research, MS: T10-E50, U.S. Nuclear Regulatory Commission, Washington, DC 20555-0001, email: tlk@nrc.gov.

Dated this 13th day of December 2000.
Thomas L. King,
Director, Division of Risk Analysis and Applications, Office of Nuclear Regulatory Research.

[FR Doc. 00-32555 Filed 12-20-00; 8:45 am]

BILLING CODE 7590-01-M